ENVIRONMENTAL PROTECTION AGENCY

40 CFR Part 147

State, Tribal, and EPA-Administered Underground Injection Control Programs

CFR Correction

This rule is being published by the Office of the Federal Register to correct an editorial or technical error that appeared in the most recent annual revision of the Code of Federal Regulations.

In Title 40 of the Code of Federal Regulations, Parts 136 to 149, revised as of July 1, 2025, in section 147.950, remove paragraphs (a)(1) through (4).

[FR Doc. 2025-16386 Filed 8-26-25; 8:45 am]

BILLING CODE 0099-10-P